DEPARTMENT OF HEALTH AND HUMAN SERVICES

[Document Identifier: OS-0990—New]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before October 29, 2018.

ADDRESSES: Submit your comments to Sherrette.Funn@hhs.gov or by calling (202) 795-7714.

FOR FURTHER INFORMATION CONTACT: When submitting comments or requesting information, please include the document identifier 0990-New—60D and project title for reference., to Sherrette.funn@hhs.gov, or call 202-795-7714, Sherrette Funn, the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Cross-Site Evaluation on the Women's Health College Sexual Assault Policy and Prevention Initiative.

Type of Collection: New.

OMB No. 0990-XXXX: Office of Women's Health within OS.

Abstract: The Office of Women's Health is seeking an approval by OMB on a new information collection, Cross-Site Evaluation on the Women's Health College Sexual Assault. The purpose of this data collection is to gather qualitative data across the nine grantee organizations and partners via interviews to gain a full understanding of grantee and partner perceived success over the course of the three-year project; grantee and partner experiences with the initiative; barriers and facilitators to project implementation; sustainability of grantee efforts; and anecdotal or other evidence of reductions in campus sexual violence. Interviews conducted with individuals representing the grantee organizations and campus partners, and will occur once per respondent in the spring of 2019.

The CDC estimates that 23 million women have experienced completed or attempted rape in their lifetimes. (National Intimate Partner and Sexual Violence Survey, https://www.cdc.gov/mmwr/preview/mmwrhtml/ss6308a1.htm). A September 2015 Association of American Universities (AAU) survey of 150,000 students across 27 colleges and universities indicated that 23% of female undergraduate students reported experiencing sexual assault since enrolling in college (AAU Campus Climate Survey on Sexual Assault and Sexual Misconduct, https://www.aau.edu/sites/default/files/%40%20Files/Climate%20Survey/Executive%20Summary%2012-14-15.pdf).

The College Sexual Assault Policy, and Prevention Initiative of the Department of Health and Human Services, Office of Women's Health, has three main goals: (1) Disseminate sexual assault policy and prevention information to organizations in a position to influence and implement policies and practices at post-secondary schools; (2) provide technical assistance to post-secondary schools to establish policies and practices that prevent sexual assault; and (3) assess the success of policy establishment and sustained prevention strategies enacted by partnering organizations and post-secondary schools.

Annualized Burden Hour Table
Forms | Respondents | Number of respondents | Number of responses per respondents | Average burden per response (within hours) | Total burden hours
Grantee key informant interview guides | Grantee organization representative | 9 | 1 | 1 | 9
Partner campus key informant interview guides | Partner campus representative | 36 | 1 | 1 | 36
Total |  |  |  |  | 45

Terry Clark,
Asst Reduction Act Reports Clearance Officer, Office of the Secretary.

[FR Doc. 2018-18544 Filed 8-27-18; 8:45 am]

BILLING CODE 4150-33-P